ENVIRONMENTAL PROTECTION AGENCY

[FRL-8463-8]

Proposed CERCLA Administrative Cost Recovery Settlement; Barbara Lastrina and Joseph Gosselin, Somers Plating Site, Somers, CT

AGENCY: Environmental Protection Agency (EPA).

ACTION: Notice of proposed settlement; request for public comment.

SUMMARY: In accordance with Section 122(i) of the Comprehensive Environmental Response Compensation, and Liability Act, as amended (“CERCLA”), 42 U.S.C. 9622(i), notice is hereby given of a proposed administrative settlement for recovery of past costs concerning the Somers Plating Superfund Site in Somers, Connecticut with the following settling parties: Barbara Lastrina and Joseph Gosselin. The settlement requires the settling parties to pay 40% of the Net Sales Proceeds of the transfer of the property to the Hazardous Substance Superfund. The settlement includes a covenant not to sue the settling parties pursuant to Section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate.

The Agency's response to any comments received will be available for public inspection at One Congress Street, Boston, MA 02114-2023.

DATES: Comments must be submitted by October 9, 2007 of this notice.

ADDRESSES: Comments should be addressed to Michelle Lauterback, Enforcement Counsel, U.S. Environmental Protection Agency, Region 1, One Congress Street, Suite 1100 (SES), Boston, Massachusetts 02114-2023 (Telephone No. 617-918-1774) and should refer to: In re: Somers Plating Superfund Site, U.S. EPA Docket No. 01-2007-0057.

FOR FURTHER INFORMATION CONTACT: A copy of the proposed settlement may be obtained from Michelle Lauterback, Enforcement Counsel, U.S. Environmental Protection Agency, Region I, One Congress Street, Suite 1100 (SES), Boston, Massachusetts 02114-2023 (Telephone No. 617-918-1774; E-mail lauterback.michelle@epa.gov).

Dated: August 29, 2007.
Arthur Johnson,
Acting Director, Office of Site Remediation and Restoration.

[FR Doc. E7-17636 Filed 9-5-07; 8:45 am]

BILLING CODE 6560-50-P